DEPARTMENT OF THE INTERIOR

National Park Service

[NPS-WASO-NRNHL-1111-8950; 2200-3200-665]

National Register of Historic Places; Notification of Pending Nominations and Related Actions

Nominations for the following properties being considered for listing or related actions in the National Register were received by the National Park Service before November 19, 2011. Pursuant to section 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, (202) 371-6447. Written or faxed comments should be submitted by December 27, 2011. Before including your address, phone number, email address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

CALIFORNIA

San Bernardino County

Wigwam Village No. 7, (U.S. Highway 66 in California MPS) 2728 Foothill Rd., San Bernardino, 11000957

FLORIDA

Orange County

Lake Adair—Lake Concord Historic District, Roughly Golfview St., Edgewater Ct., Alameda St., & Peachtree Rd., Orlando, 11000958

GEORGIA

Screven County

Georgia Welcome Center, 8463 Burtons Ferry Hwy., Sylvania, 11000959

MARYLAND

Baltimore Independent City

Zion Lutheran Church, 400 E. Lexington St., Baltimore, 11000960

Montgomery County

Riley—Bolten House, 11420 Old Georgetown Rd., North Bethesda, 11000961

Rockville Park Historic District,

Roughly bounded by Baltimore Rd., Joseph St., Grandin, Reading, & S. Stonestreet Aves., Rockville, 11000962

Prince George's County

St. Thomas' Episcopal Parish Historic District, From E. side of Croom Rd. along N. & S. sides of St. Thomas Church Rd. eastward for about 1500 ft., Upper Marlboro, 11000963

NEW HAMPSHIRE

Cheshire County

Buckminster—Kingsbury Farm, 80 Houghton Ledge Rd., Roxbury, 11000964

NEW JERSEY

Mercer County

American Cigar Company Building, 176 Division St., Trenton, 11000965

Monmouth County

Parker Homestead, 235 Rumson Rd., Little Silver, 11000966

NEW YORK

Bronx County

Riverdale—Spuyten Duyvil—Kingsbridge Memorial Bell Tower, Riverdale Ave. at W. 239th St. & Henry Hudson Pkwy., Bronx, 11000967

New York County

Eleventh Street Methodist Episcopal Church, 543-547 E. 11th St., New York, 11000968

West End Presbyterian Church and Parish House, 165 W. 165th St., New York, 11000969

Schenectady County

Nott Street School, 487 Nott St., Schenectady, 11000970

Warren County

Lake George Battlefield Park Historic District, 139 Beach Rd., Lake George, 11000971

NORTH CAROLINA

Buncombe County

Downtown Asheville Historic District (Boundary Increase III and Boundary Decrease), (Asheville Historic and Architectural MRA) 76-129 Biltmore Ave., 64 Carter St., 11-23 Grove St., 14-44 N. French Broad Ave., 12-25 S. French Broad Ave., Asheville NC, 11000972

Chatham County

Bray—Paschal House, (Chatham County MRA) 2488 Wade Paschal Rd., Siler City, 11000973

Henderson County

Rice, Clough H., House, 219 Stoney Mountain Rd., Hendersonville, 11000974

Johnston County

West Selma Historic District, Bounded by W. Railroad, N. Brevard, W. Richardson & N. Pollock Sts., Selma, 11000975

OREGON

Umatilla County

Weston School, 205 E. Wallace St., Weston, 11000976 Winn Barn, 79560 Winn Rd., Weston, 11000977

RHODE ISLAND

Providence County

Esten—Bowen House, 299 Iron Mine Rd., Burrillville, 11000978

TENNESSEE

Loudon County

War Memorial Building, 103 N. B St., Lenoir City, 11000979

TEXAS

Gregg County

Rembert, Frank Taylor and Kate Womack, House, 316 S. Fredonia St., Longview, 11000980

Harris County

Yale Street Bridge over White Oak Bayou, (Historic Bridges of Texas MPS) Yale St. at White Oak Bayou, Houston, 11000981

Tarrant County

Ridglea Theatre, 6025-6033 Camp Bowie Rd. & 3309 Winthrop Ave., Fort Worth, 11000982

Travis County

Gethsemane Lutheran Church, 200 W. Anderson Ln., Austin, 11000983

VIRGINIA

Roanoke Independent City

Wasena Historic District, Wiley Dr., Winchester, Winona, Wasena, Howbert, Valley, Hamilton, Kerns, Floyd & Summit Aves., Brighton Rd., Roanoke (Independent City), 11000984

WASHINGTON

Island County

Kristoferson Dairy, (Barns of Washington State MPS) 393 N. East Camano Dr., Stanwood, 11000986

King County

Federal Reserve Bank of San Francisco, Seattle Branch, 1015 2nd. Ave., Seattle, 11000985

Whatcom County

Bellingham City Hall, 210 Lottie St., Bellingham, 11000987

[FR Doc. 2011-31751 Filed 12-9-11; 8:45 am]

BILLING CODE 4312-51-P